NATIONAL CREDIT UNION ADMINISTRATION

Sunshine Act Meeting

TIME AND DATE: 10 a.m., Thursday, October 18, 2001.

PLACE: Board Room, 7th Floor, Room 7047, 1775 Duke Street, Alexandria, VA 22314-3428.

STATUS: Open.

MATTERS TO BE CONSIDERED: 1. Request from a Federal Credit Union to Add an Underserved Area to its Field of Membership.

2. Appeals from Two (2) Federal Credit Unions of the Regional Director's Denial to Convert from a Multiple Group Charter to a Community Charter.

3. Proposed Interpretive Ruling and Policy Statement (IRPS) regarding Allowance for Loan and Lease Losses Methodologies and Documentation for Federally-Insured Credit Unions.

4. Advance Notice of Proposed Rulemaking, Part 703, NCUA's Rules and Regulations, Investment and Deposit Activities.

RECESS: 11:15 a.m.

TIME AND DATE: 11:30 a.m., Thursday, October 18, 2001.

PLACE: Board Room, 7th Floor, Room 7047 1775 Duke Street, Alexandria, VA 22314-3428.

STATUS: Closed

MATTERS TO BE CONSIDERED: 1. Two (2) Administrative Actions under Part 704 of NCUA's Rules and Regulations. Closed pursuant to exemption (8).

2. Administrative Action under Part 709 of NCUA's Rules and Regulations. Closed pursuant to exemptions (6) and (8).

3. Two (2) Personnel Matters. Closed pursuant to exemptions (2) and (6).

FOR FURTHER INFORMATION CONTACT: Becky Baker, Secretary of the Board, Telephone 703-518-6304.

Becky Baker,
Secretary of the Board

[FR Doc. 01-26020 Filed 10-11-01; 8:45 am]

BILLING CODE 7535-01-M